FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Excel Express Cargo Corp. (NVO & OFF), 8430 N.W. 66th Street, Miami, FL 33166. Officers: Karime Zawady, Vice President (Qualifying Individual), Alexander Parra, President. Application Type: QI Change.

Hansol Goldpoint LLC (NVO & OFF), 9287 Airway Road, San Diego, CA 92154. Officers: Jae H. Kwon, Manager (Qualifying Individual), Jinho Um, CFO. Application Type: New NVO & OFF License.

Junction Int'l Logistics, Inc. (NVO), 17870 Castleton Street, Suite 107, City of Industry, CA 91748. Officers: Charles Kuo, Secretary (Qualifying Individual), Xingwang Chen, Director. Application Type: New NVO License.

Linsan.Tex Investments, L.L.C. (OFF), 8404 Endicott Lane, Dallas, TX 75227. Officers: Franklin E. Aigbuza, Secretary/Member (Qualifying Individual), Roseline A. Izedonmwen, CEO/Member. Application Type: New OFF License.

Prime Air Cargo, Inc. dba Prime Air & Ocean Cargo (NVO & OFF), 1316 NW 78th Avenue, Miami, FL 33126. Officers: Omar A. Zambrano-Oviedo, General Manager/Secretary (Qualifying Individual), Roger A. Paredes, President/Treasurer. Application Type: New NVO & OFF License.

Red Arrow Consulting, Inc. dba Red Arrow Logistics (OFF), 14925 SE Allen Road, #203-B, Bellevue, WA 98006. Officer: Lorraine (“Liz”) E. Lasater, President/CEO/Secretary (Qualifying Individual). Application Type: New OFF License.

Sea Cargo Inc. (NVO), 19130 Figueroa Street, Carson, CA 90248. Officers: Joseph E. Kennedy, CFO (Qualifying Individual), Andrei V. Pilipenko, CEO. Application Type: New NVO License.

Skybox Cargo Consolidators, LLC (NVO), 2073 N. Arbor Lane, Chandler, AZ 85225. Officers: Michael Ramos, Member (Qualifying Individual), Arnel E. Jabile, Member. Application Type: New NVO License.

Source Consulting, LLC (NVO & OFF), 217 Lucas Street, #L, Mount Pleasant, SC 29464. Officer: Christopher F. Findlay, CEO/President (Qualifying Individual). Application Type: New NVO & OFF License.

Tillicum Global Networks, Inc. (NVO), 7511 Zircon Drive SW., Lakewood, WA 98498. Officer: Eun (AKA Michelle) K. Han, President/Secretary/Treasurer. Application Type: New NVO License.

Dated: October 1, 2010.
Rachel E. Dickon,
Assistant Secretary.

[FR Doc. 2010-25163 Filed 10-5-10; 8:45 am]

BILLING CODE 6730-01-P